DEPARTMENT OF AGRICULTURE

Submission for OMB Review; Comment Request

October 26, 2020.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 30, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Voluntary Labeling Program for Biobased Products.

OMB Control Number: 0570-0072.

Summary of Collection: The Commodity Credit Corporation (CCC) and the Rural Business-Cooperative Service (RBCS), announced the availability of up to $100 million in competitive grants to eligible entities for activities designed to expand the sales and use of renewable fuels under the Higher Blends Infrastructure Incentive Program (HBIIP). Of the total amount of available funds, approximately $86 million are available to transportation fueling facilities (including fueling stations, convenience stores, hypermarket fueling stations, fleet facilities, and similar entities with capital investments) and approximately $14 million are available to fuel distribution facilities (including terminal operations, depots, and midstream partners), for eligible implementation activities related to higher blends of fuel ethanol, such as E15 or higher; greater than 10 percent ethanol and higher blends of biodiesel, such as B20 or higher; greater than 5 percent biodiesel. Cost-share grants of up to 50 percent of eligible project costs but not more than $5 million will be made available to assist transportation fueling and biodiesel distribution facilities. This information collection is needed for RBCS to identify eligible applicants seeking grant funds through the HBIIP and provide funding this fiscal year.

HBIIP is intended to encourage a more comprehensive approach to marketing higher blends biofuels by sharing the costs related to building out biofuel-related infrastructure. To be eligible for this program, a project's sole purpose must be to assist transportation fueling and biodiesel distribution facilities with converting to higher ethanol and biodiesel blend friendly status by sharing the costs related to the installation, and/or retrofitting, and/or otherwise upgrading of fuel storage, dispenser/pumps, related equipment, and infrastructure. An eligible project must conform to all applicable Federal, State and local regulatory requirements.

Need and Use of the Information: Pursuant to the authorization by the Commodity Credit Corporation Charter Act of 1948 (Charter Act), (62 Stat. 1070; 15 U.S.C. 714. Charter Act), RBCS will collect information to determine whether participants meet the eligibility requirements to be a recipient of grant funds, project eligibility, conduct the technical evaluation, calculate a priority score, rank and compete the application, as applicable, in order to be considered. Lack of adequate information to make the determination could result in the improper administration and appropriation of Federal grant funds. Applications must be submitted electronically using either the Government-wide www.grants.gov website or by the secure-server portal https://www.rd.usda.gov. No other form of application will be accepted.

Eligible applicants include owners of transportation fueling, and fuel distribution facilities located in the United States. Eligible entities would include fueling stations, convenience stores, hypermarket fueling stations, fleet facilities, and similar entities with equivalent capital investments, as well as biodiesel terminal operations and heating oil distribution facilities or equivalent entities.

There are two different eligible activities an applicant can apply for grant funds: (1) For Higher Blend Implementation Activities related to Transportation Fueling Facilities and (2) For Higher Blend Implementation Activities related to Fuel Distribution Facilities.

Description of Respondents: Business or other for-profit.

Number of Respondents: 348.

Frequency of Responses: Recordkeeping; Reporting: Other (once).

Total Burden Hours: 13,843.

Levi S. Harrell,
Departmental Information Collection Clearance Officer.

[FR Doc. 2020-23942 Filed 10-29-20; 8:45 am]

BILLING CODE 3410-XY-P